COURT SERVICES AND OFFENDER SUPERVISION AGENCY FOR THE DISTRICT OF COLUMBIA

28 CFR Part 803

RIN 3225-AA09

Technical Amendments Due to Change of Agency Name

AGENCY: Court Services and Offender Supervision Agency for the District of Columbia.

ACTION: Final rule.

SUMMARY: The Court Services and Offender Supervision Agency for the District of Columbia (“CSOSA”) is issuing a final rule to change all references to the District of Columbia Pretrial Services Agency (“PSA”), an independent federal agency within CSOSA, to reflect the change of the agency's name to the Pretrial Services Agency for the District of Columbia. Additionally, the description of PSA's seal is being amended. The regulations are also being amended to clearly state that either CSOSA's Director or PSA's Director or designee has the authority to affix the seal for that Director's respective agency. Finally, the regulations are being amended to clearly state that either CSOSA's or PSA's Director or designee may approve the use of the seal. All the changes made in this rule are strictly technical.

DATES: Effective September 26, 2012.

FOR FURTHER INFORMATION CONTACT: Rorey Smith, Assistant General Counsel, (202) 220-5797, or rorey.smith@csosa.gov.

SUPPLEMENTARY INFORMATION:

I. Summary of Rule

The District of Columbia Home Rule Act (DC HRA), Public Law 93-198, granted the Council of District of Columbia (“Council”) with legislative authority over essentially local District matters. After forty-eight (48) months of the passage of the D.C. HRA, the Council had the authority to enact any act, resolution, or rule with respect to any provision of title 23 of the District of Columbia Code (relating to criminal procedure). With respect to any act codified in title 23 of the District of Columbia Code, such act takes effect at the end of the 60-day period beginning on the day such act is transmitted by the Chairman to the Speaker of the House of Representatives and the President of the Senate unless, during such 60-day period, there has been enacted into law a joint resolution disapproving such act.

On June 3, 2011, the District of Columbia Criminal Code Amendments Act of 2010, D.C. Law 18-377, became effective and was codified at D.C. Official Code section 23-1301. Section 210 of this Act amended section 23-1301 of the District of Columbia Code by striking the phrase “District of Columbia Pretrial Services Agency” wherever it appeared and inserting in its place the phrase “Pretrial Services Agency for the District of Columbia.” This change was made to be consistent with other federal agencies with a local mission focus in the District of Columbia whose names end with “for the District of Columbia,” such as CSOSA and the United States Attorney's Office. All the functions formerly carried out by CSOSA and PSA remain unchanged.

II. Administrative Procedure Act

Because this regulation merely implements a change in the name of a government agency and the description of the agency seal, it relates only to agency organization, procedure or practice; therefore, requirements for prior notice and public comment do not apply. 5 U.S.C. 553(b)(3)(A). The limited purpose and effect of this rule also justifies the finding for good cause, pursuant to 5 U.S.C. 553(d)(3), that the rule should take effect immediately.

III. Paperwork Reduction Act

This final rule does not include or modify a collection of information as defined in 44 U.S.C. 3502(3) of the Paperwork Reduction Act of 1995.

IV. Regulatory Flexibility Act

Because the agency is issuing this rule without a proposal and an opportunity for comments, the Regulatory Flexibility Act (5 U.S.C. 601 et seq.) does not apply. In any event, the technical amendments made by this regulation will not have a significant impact on a substantial number of small entities.

V. Congressional Review Act

This regulation is a rule of agency organization, procedure or practice that does not substantially affect the rights or obligations of non-agency parties. It is therefore not subject to the Congressional Review Act pursuant to 5 U.S.C. 801 and 804(3)(C).

VI. Executive Order 12866

Following consultation with the Office of Management and Budget, a determination was made that this rule does not meet the criteria for a significant regulatory action under Executive Order 12866.

VII. Federalism

This rule does not have Federalism implications under Executive Order 13132.

List of Subjects in 28 CFR Part 803

Probation and parole, Seals and insignia.

For the reasons set forth in the preamble, the Court Services and Offender Supervision Agency for the District of Columbia amends 28 CFR Part 803 as follows:

PART 803—[AMENDED]

1. The authority citation for part 803 is revised as follows:

Authority: 5 U.S.C. 301, Pub L. 105-33, 111 Stat. 251, 712, D.C. Code 24-133.

2. In § 803.1, revise paragraph (b) to read as follows:

§ 803.1 Description.

* * * * *

(b) The Agency seal of the Pretrial Services Agency for the District of Columbia (PSA or Agency) is described as follows: Two crossed flags, the United States flag on the left and the District of Columbia flag on the right superimposed upon the United States Capitol dome and two laurel branches both in gold which appear on a blue field bearing a white banner edged and lettered in gold with the inscription “COMMUNITY, ACCOUNTABILITY, JUSTICE”; bearing the inscription “PRETRIAL SERVICES AGENCY” at the top, and “DISTRICT OF COLUMBIA” at the bottom surrounded by three gold stars on either side; letters and stars in gold. A reproduction of the Agency seal in black and white appears below.

3. Revise § 803.2 to read as follows:

§ 803.2 Authority to affix seal.

* * * * *

The Director of CSOSA or PSA (as appropriate) and each Director's designees are authorized to affix their respective Agency seal (including replicas and reproductions) to appropriate documents, certifications, and other materials for all purposes authorized by this part.

4. In § 803.3, revise paragraph (a) to read as follows:

§ 803.3 Use of the seal.

* * * * *

(a) Each Agency's seal is used by that Agency's staff for official Agency business as approved by the appropriate Director or designee in accordance with all subparts of 28 CFR 803.3.

* * * * *

Dated: September 18, 2012.
Nancy M. Ware,
Director, CSOSA.

[FR Doc. 2012-23589 Filed 9-25-12; 8:45 am]

BILLING CODE 3129-01-M